DEPARTMENT OF LABOR

Employment and Training Administration

[TA-W-59,765]

Indiana Tube Corporation, Evansville, IN; Notice of Termination of Investigation

Pursuant to Section 221 of the Trade Act of 1974, an investigation was initiated on July 21, 2006 in response to a petition filed by a company official on behalf of workers at Indiana Tube Corporation, Evansville, Indiana.

The petitioner has requested that the petition be withdrawn. Consequently, the investigation has been terminated.

Signed in Washington, DC, this 24th day of August 2006.
Elliott S. Kushner,
Certifying Officer, Division of Trade Adjustment Assistance.

[FR Doc. E6-14593 Filed 9-1-06; 8:45 am]

BILLING CODE 4510-30-P